DEPARTMENT OF ENERGY

Federal Energy Regulatory Commission

18 CFR Part 201

[Docket No. RM02-7-000; Order No. 631]

Accounting, Financial Reporting, and Rate Filing Requirements for Asset Retirement Obligations; Notice of Correction

June 3, 2003.

AGENCY: Federal Energy Regulatory Commission, DOE.

ACTION: Final rule; correction.

SUMMARY: The Federal Energy Regulatory Commission published in the Federal Register of April 21, 2003, a final rule amending its accounting and reporting requirements for asset retirement obligations. Inadvertently, account 364.9, asset retirement costs for base load liquefied natural gas terminaling and processing plant, and related instruction was not included in the Gas Plant Accounts in the natural gas companies' Uniform System of Accounts. This correction includes the account in the Uniform System of Accounts.

DATES: Effective on June 11, 2003.

FOR FURTHER INFORMATION CONTACT: Mark Klose (Project Manager), Office of the Executive Director, Federal Energy Regulatory Commission, 888 First Street, NE., Washington, DC 20426, (202) 502-8283.

SUPPLEMENTARY INFORMATION: The Federal Energy Regulatory Commission published in the Federal Register of April 21, 2003, (68 FR 19610) a final rule amending its accounting and financial reporting requirements for asset retirement obligations. Inadvertently, Gas Plant Account 364.9 (Asset retirement costs for base load liquefied natural gas terminaling and processing plant) and the instruction related to this account were not incorporated into the Uniform System of Accounts for natural gas companies in part 201 of the Commission's regulations. To address this omission, the Commission will publish in the Federal Register the following correction to the final rule document that was published in the Federal Register at 68 FR 19610, on April 21, 2003.

In rule FR Doc. 03-9260 published on April 21, 2003 (68 FR 19610) make the following correction.

On page 19624, in the second column, account 364.9 is added to part 201 in Gas Plant Accounts following account 363.6 to read as follows:

Gas Plant Accounts

* * * * *

364.9 Asset retirement costs for base load liquefied natural gas terminaling and processing plant.

This account shall include asset retirement costs on plant included in the base load liquefied natural gas terminaling and processing plant function.

* * * * *

Magalie R. Salas,
Secretary.

[FR Doc. 03-14561 Filed 6-10-03; 8:45 am]

BILLING CODE 6717-01-P